DEPARTMENT OF COMMERCE

National Oceanic and Atmospheric Administration

[RTID 0648-XE458]

Nominations for the 2025-2028 General Advisory Committee and the Scientific Advisory Subcommittee to the United States Delegation to the Inter-American Tropical Tuna Commission

AGENCY: National Marine Fisheries Service (NMFS), National Oceanic and Atmospheric Administration (NOAA), Commerce.

ACTION: Notice; request for nominations.

SUMMARY: National Marine Fisheries Service, on behalf of the Secretary of Commerce, is seeking nominations for the General Advisory Committee (GAC) to the U.S. delegation to the Inter-American Tropical Tuna Commission (IATTC or Commission), as well as to a Scientific Advisory Subcommittee (SAS) of the GAC. The purpose of the GAC and its SAS is to provide public input and advice to the U.S. delegation to aid in the formulation of policy and positions for meetings of the IATTC and its subsidiary bodies. The SAS shall also function as the National Scientific Advisory Committee provided for in the Agreement on the International Dolphin Conservation Program.

DATES: Nominations must be received no later than December 17th, 2024.

ADDRESSES: Nominations should be directed to Jennifer Quan, Regional Administrator, NMFS West Coast Region, and may be submitted by the following means:

• Email wcr.hms@noaa.gov with the subject line: “General Advisory Committee and Scientific Advisory Subcommittee nominations”

FOR FURTHER INFORMATION CONTACT: Lucille Bulkeley, West Coast Region, NMFS, at lucille.bulkeley@noaa.gov, or at (858)-546-5620.

SUPPLEMENTARY INFORMATION:

General Advisory Committee

The Tuna Conventions Act (TCA) provides that the Secretary of Commerce, in consultation with the Secretary of State, shall appoint a “General Advisory Committee” to advise the U.S. delegation to the IATTC. The GAC shall be composed of no more than 25 individuals who shall be representative of the various groups concerned with the fisheries covered by the IATTC, including non-governmental conservation organizations, providing an equitable balance among such groups to the maximum extent practicable. Members of the GAC shall be invited to attend all non-executive meetings of the U.S. delegation to the IATTC and at such meetings shall be given the opportunity to examine and be heard on all proposed programs of investigation, reports, recommendations, and regulations of the Commission.

The Chair of the Pacific Fishery Management Council's (Pacific Council) Advisory Subpanel for Highly Migratory Fisheries and the Chair of the Western Pacific Fishery Management Council's (Western Pacific Council) Advisory Committee shall be ex-officio members of the GAC by virtue of their positions advising those Councils. GAC members will be eligible to participate as members of the U.S. delegation to the Commission and its working groups to the extent that the Commission rules and space for delegations allow.

Meetings of the GAC, except when in executive session, shall be open to the public, and prior notice of meetings shall be made public in timely fashion. In accordance with Public Law 114-81, the GAC shall not be subject to the Federal Advisory Committee Act (5 U.S.C. app.).

Individuals appointed to serve as a member of the GAC shall serve without pay. While away from their homes or regular places of business to attend meetings of the GAC, they shall be allowed travel expenses, including per diem in lieu of subsistence, in the same manner as persons employed intermittently by the Federal Government are allowed expenses under 5 U.S.C. 5703. In addition, individuals appointed to serve as a member of the GAC shall not be considered Federal employees except for the purposes of injury compensation or tort.

Scientific Advisory Subcommittee

The TCA also provides that the Secretary of Commerce, in consultation with the Secretary of State, shall appoint persons to serve on the subcommittee of the GAC, referred to here as the “Scientific Advisory Subcommittee.” The SAS shall be composed of no fewer than 5 and no more than 15 qualified scientists with balanced representation from the public and private sectors, including non-governmental conservation organizations. In determining whether a person is a qualified scientist the Secretary may consider, among other things, advanced degrees and/or publications in fields such as fisheries or marine science.

National Scientific Advisory Committee

The SAS shall also function as the National Scientific Advisory Committee which is required to be established pursuant to Article XI of the Agreement on the International Dolphin Conservation Program (AIDCP). In this regard, the SAS shall perform the functions of the National Scientific Advisory Committee as specified in Annex VI of the AIDCP. These functions include, but are not limited to: (1) Receiving and reviewing relevant data, including data provided to NMFS by IATTC staff; (2) Advising and recommending measures and actions to the U.S. Government that should be undertaken to conserve and manage stocks of living marine resources in the eastern Pacific Ocean; (3) Making recommendations to the U.S. Government regarding research needs related to the eastern Pacific Ocean tuna purse seine fishery; (4) Promoting the regular and timely full exchange of data among the AIDCP Parties on a variety of matters related to the implementation of the AIDCP; and (5) Consulting with other experts, as necessary, in order to achieve the objectives of the AIDCP.

Members of the SAS/National Scientific Advisory Committee shall receive no compensation for their service.

General Provisions

Each member of the GAC shall be appointed for a term of 3 years, starting from the date of the appointment, and may be reappointed. The Secretary of Commerce and the Secretary of State shall provide the GAC with relevant information concerning fisheries and international fishery agreements. The Secretary of Commerce shall provide to the GAC such administrative and technical support services that are necessary for its effective functioning in a timely manner.

Procedures for Submitting Applications

Applications for the GAC and the SAS/National Scientific Advisory Committee should be submitted to NMFS West Coast Region (see ADDRESSES). This request for applications is for first time nominees, current members whose appointments will end in May 2025, and previous members. Self-nomination applications are acceptable. Applications should include all of the following information: (1) Full name, address (home and business, if different), telephone, and email address of nominee;

(2) Specification about whether the application is for the GAC or the SAS/National Scientific Advisory Committee or both; (3) Nominee's organization(s) or professional affiliation(s) serving as the basis for the nomination; (4) Background statement describing the nominee's qualifications and experience, especially as related to fisheries for tuna and tuna-like species in the eastern Pacific Ocean or other factors relevant to the implementation of the Convention Establishing the IATTC or the AIDCP. Applications to the SAS should highlight advanced degrees and academic publications; and (5) A written statement from the nominee of intent to participate actively and in good faith in the meetings and activities of either the GAC or the SAS/National Scientific Advisory Committee, or both.

Applicants who submitted material in response to the Federal Register notice published by NMFS on October 30, 2018 (83 FR 54573), or prior, should resubmit their applications pursuant to this notice.

Authority: 16 U.S.C. 951 et seq.

Dated: November 13, 2024.
Karen H. Abrams,
Acting Director, Office of Sustainable Fisheries, National Marine Fisheries Service.

[FR Doc. 2024-26813 Filed 11-15-24; 8:45 am]

BILLING CODE 3510-23-P